DEPARTMENT OF HOMELAND SECURITY

Coast Guard

33 CFR Part 100

[Docket No. USCG-2013-0327]

Regattas and Marine Parades in the COTP Lake Michigan Zone

AGENCY: Coast Guard, DHS.

ACTION: Notice of enforcement of regulation.

SUMMARY: The Coast Guard will enforce the special local regulation on the Black River for the Harborfest Dragon Boat Race in South Haven, Michigan. This regulated area will be enforced from 6 a.m. until 7 p.m. on June 21 and June 22, 2014. This action is necessary and intended to ensure safety of life and property on navigable waters immediately prior to, during, and immediately after the Dragon Boat race. During the aforementioned period, the Coast Guard will enforce restrictions upon, and control movement of, vessels in a portion of the Captain of the Port Lake Michigan Zone.

DATES: The regulations in 33 CFR 100.903 will be enforced from 6 a.m. until 7 p.m. on June 21 and June 22, 2014.

FOR FURTHER INFORMATION CONTACT: If you have questions on this document, call or email MST1 Joseph McCollum, Prevention Department, Coast Guard Sector Lake Michigan, Milwaukee, WI at (414) 747-7148, email joseph.p.mccollum@uscg.mil.

SUPPLEMENTARY INFORMATION: The Coast Guard will enforce the special local regulation listed in 33 CFR 100.903, Harborfest Dragon Boat Race; South Haven, MI. This special local regulation will be established on the Black River in South Haven, MI within the following coordinates starting at 42°24′13.6″ N, 086°16′41″ W; then southeast 42°24′12.6″ N, 086°16′40″ W; then northeast to 42°24′19.2″ N, 086°16′26.5″ W; then northwest to 42°24′20.22″ N, 086°16′27.4″ W; then back to point of origin (NAD 83). This special local regulation will be enforced from 6 a.m. until 7 p.m. on June 21 and June 22, 2014.

Vessels desiring to transit the regulated area may do so only with prior approval of the Patrol Commander and when so directed by that officer. Vessels will be operated at a no wake speed to reduce the wake to a minimum, and in a manner which will not endanger participants in the event or any other craft. The rules contained in the above two sentences shall not apply to participants in the event or vessels of the patrol operating in the performance of their assigned duties. The Patrol Commander may direct the anchoring, mooring, or movement of any boat or vessel within the regatta area.

This document is issued under authority of 33 CFR 100.903, Harborfest Dragon Boat Race; South Haven, MI, and 5 U.S.C. 552(a). In addition to this publication in the Federal Register, the Coast Guard will provide the maritime community with advance notification of this event via Broadcast Notice to Mariners or Local Notice to Mariners. The Captain of the Port, Lake Michigan, or his or her on-scene representative may be contacted via Channel 16, VHF-FM.

Dated: May 27, 2014.
M.W. Sibley,
Captain, U.S. Coast Guard, Captain of the Port, Lake Michigan.

[FR Doc. 2014-13302 Filed 6-6-14; 8:45 am]

BILLING CODE 9110-04-P